DEPARTMENT OF AGRICULTURE

Deschutes Provincial Advisory Committee (DPAC)

AGENCY: Forest Service, USDA.

ACTION: Notice of meeting.

SUMMARY: The Deschutes Provincial Advisory Committee will meet on June 10, 2011 to review the goals and objectives of the committee for the next two year period. The meeting will also provide updates on the forest restoration and sustainable recreation subcommittees. Members will meet at the Deschutes National Forest Supervisor's office, Upper Deschutes Conference Room (1001 SW. Emkay Drive, Bend, Oregon) from 9 a.m. until noon. All Deschutes Province Advisory Committee meetings are open to the public.

FOR FURTHER INFORMATION CONTACT: Michael Keown, Province Liaison, Sisters Ranger District, Pine Street and Highway 20, Sisters, Oregon 97759, Phone (541) 549-7735.

John Allen,
Deschutes National Forest Supervisor.

[FR Doc. 2011-14793 Filed 6-15-11; 8:45 am]

BILLING CODE 3410-11-M